DEPARTMENT OF DEFENSE

Defense Acquisition Regulations System

[Docket DARS-2018-0057]

RIN 0750-AK36

Defense Federal Acquisition Regulation Supplement: Contract Financing (DFARS Case 2019-D001); Public Meetings

AGENCY: Defense Acquisition Regulations System, Department of Defense (DoD).

ACTION: Announcement of public meetings.

SUMMARY: DoD is hosting several public meetings to obtain views of experts and interested parties in Government and the private sector regarding revising policies and procedures for contract financing, performance incentives, and associated regulations for DoD contracts.

DATES:

Public Meeting Dates: The public meetings will be held on the following dates:

• January 10, 2019, from 9:00 a.m. to 12:00 p.m., EST.

• January 22, 2019, from 1:30 p.m. to 4:30 p.m., EST.

• February 19, 2019, from 1:00 p.m. to 4:00 p.m., EST.

Registration Dates: Registration to attend the public meetings must be received no later than close of business on the following dates:

• January 3, 2019, for the meeting on January 10th.

• January 15, 2019, for the meeting on January 22nd.

• February 12, 2019, for the meeting on February 19th.

Information on how to register for the public meetings is provided in the SUPPLEMENTARY INFORMATION section of this notice.

ADDRESSES: The three public meetings will be held in the Mark Center Auditorium, 4800 Mark Center Drive, Alexandria, VA 22350-3603. The Mark Center Auditorium is located on level B-1 of the building.

FOR FURTHER INFORMATION CONTACT: Ms. Amy Williams, DPC/DARS, at 571-372-6106.

SUPPLEMENTARY INFORMATION: DoD is hosting several public meetings to obtain views of experts and interested parties in Government and the private sector regarding revising policies and procedures for contract financing, performance incentives, and associated regulations for DoD contracts.

Registration: To ensure adequate room accommodations and to facilitate security screening and entry to the Mark Center, individuals wishing to attend the public meeting must register by the close of business on the dates listed in the DATES section of this notice, by sending the following information via email to osd.dfars@mail.mil:

(1) Full name.

(2) Valid email address.

(3) Valid telephone number.

(4) Company or organization name.

(5) Whether the individual is a U.S. citizen.

(6) The date(s) of the public meeting(s) the individual wishes to attend.

(7) Whether the individual intends to make a presentation, and, if so, the individual's title.

Building Entry: Upon receipt of an email requesting registration, the Defense Acquisition Regulations System will provide notification to the Pentagon Force Protection Agency (PFPA) that the individual is requesting approval for entry to the Mark Center on the date(s) provided. PFPA will send additional instructions to the email address provided in the request for registration. The registrant must follow the instructions in the PFPA email in order to be approved for entry to the Mark Center.

One valid government-issued photo identification card (i.e., driver's license or passport) will be required in order to enter the building.

Attendees are encouraged to arrive at least 30 minutes prior to the start of the meeting to accommodate security procedures.

Public parking is not available at the Mark Center.

Presentations: If you wish to make a presentation, please submit an electronic copy of your presentation via email to osd.dfars@mail.mil no later than the registration date for the specific meeting listed in the DATES section of this notice. Each presentation should be in PowerPoint to facilitate projection during the public meeting and should include the presenter's name, organization affiliation, telephone number, and email address on the cover page. Please submit presentations only and cite “Public Meeting, DFARS Case 2019-D001” in all correspondence related to the public meeting. There will be no transcription at the meeting. The submitted presentations will be the only record of the public meeting and will be posted to the following website at the conclusion of the public meeting: https://www.acq.osd.mil/dpap/dars/contract_financing.html.

Special accommodations: The public meeting is physically accessible to people with disabilities. Requests for reasonable accommodations, sign language interpretation, or other auxiliary aids should be directed to Daniel Weinstein at 571-372-6105, by no later than the registration date for the specific meeting listed in the DATES section of this notice.

The TTY number for further information is: 1-800-877-8339. When the operator answers the call, let him or her know that the agency is the Department of Defense and the point of contact is Daniel Weinstein at 571-372-6105.

Jennifer Lee Hawes,
Regulatory Control Officer, Defense Acquisition Regulations System.

[FR Doc. 2018-26899 Filed 12-11-18; 8:45 am]

BILLING CODE 5001-06-P